DEPARTMENT OF COMMERCE

National Oceanic and Atmospheric Administration

Availability of Seats for the Florida Keys National Marine Sanctuary Advisory Council

AGENCY: National Marine Sanctuary Program (NMSP), National Ocean Service (NOS), National Oceanic and Atmospheric Administration (NOAA), Department of Commerce (DOC).

ACTION: Notice and request for applications.

SUMMARY: The Florida Keys National Marine Sanctuary (FKNMS)) is seeking applications for the following vacant seats on its Sanctuary Advisory Council (council): Boating, Citizen-at-Large (upper Keys), Diving (alternate), Citizen-at-Large (middle Keys, alternate), Conservaiton & Environment (alternate), Recreational Fishing, Recreational Fishing (alternate), Research & Monitoring (alternate), Elected Official (alternate), Charter Fishing (sports). Applicants are chosen based upon their particular expertise and experience in relation to the seat for which they are applying; community and professional affiliations; philosophy regarding the protection and management of marine resources; and possibly the length of residence in the area affected by the sanctuary. Applicants who are chosen as members should expect to serve three-year terms, pursuant to the Council's charter.

DATES: Applications are due by January 12, 2007.

ADDRESSES: Application kits may be obtained from the Advisory Council Coordinator at Fiona.Wilmot@noaa.gov, from the Web site at www.floridakeys.noaa.gov, by telephone at (305)-395-0194 or in writing at 2513 Granada Circle East, St. Petersburg, FL 33712 or any of the FKNMS offices listed on the Web site. Completed applications should be sent to the same address listed above.

FOR FURTHER INFORMATION CONTACT: Fiona Wilmot at the above address, e-mail and telephone number.

SUPPLEMENTARY INFORMATION: Information concerning the council, including past meeting minutes and member contact information can be found at the sanctuary Web site.

Authority: 16 U.S.C. Sections 1431, et seq.

(Federal Domestic Assistance Catalog Number 11.429 Marine Sanctuary Program)

Dated: December 7, 2006.
Daniel J. Basta,
Director, National Marine Sanctuary Program, National Ocean Service, National Oceanic and Atmospheric Administration.

[FR Doc. 06-9675 Filed 12-13-06; 8:45 am]

BILLING CODE 3510-NK-M